DEPARTMENT OF VETERANS AFFAIRS

[OMB Control No. 2900-0589]

Agency Information Collection (Purchase of Shellfish) Activities Under OMB Review

AGENCY: Office of Acquisition and Logistics, Department of Veterans Affairs.

ACTION: Notice.

SUMMARY: In compliance with the Paperwork Reduction Act (PRA) of 1995 (44 U.S.C. 3501-3521), this notice announces that the Office of Acquisition and Materiel Management, Department of Veterans Affairs, will submit the collection of information abstracted below to the Office of Management and Budget (OMB) for review and comment. The PRA submission describes the nature of the information collection and its expected cost and burden; it includes the actual data collection instrument.

DATES: Comments must be submitted on or before August 16, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0589” in any correspondence.

For Further Information or a Copy of the Submission Contact: Crystal Rennie, Enterprise Records Service (005R1B), Department of Veterans Affairs, 810 Vermont Avenue NW., Washington, DC 20420, (202) 632-7492 or email: crystal.rennie@va.gov. Please refer to “OMB Control No. 2900-0589.”

SUPPLEMENTARY INFORMATION:

Title: Veterans Affairs Acquisition Regulation (VAAR) Provision 852.270-3, Shellfish.

OMB Control Number: 2900-0589.

Type of Review: Revision of a currently approved collection.

Abstract: VAAR clause 852.270-3, Purchase of Shellfish, requires that a firm furnishing shellfish to VA must ensure that the shellfish is packaged in a container that is marked with the packer's State certificate number and State abbreviation. In addition, the firm must ensure that the container is tagged or labeled indicating the name and address of the approved producer or shipper, the name of the State of origin, and the certificate number of the approved producer or shipper. The information is used to ensure that shellfish purchased by VA comes from a State- and Federal-approved and inspected source.

An agency may not conduct or sponsor, and a person is not required to respond to a collection of information unless it displays a currently valid OMB control number. The Federal Register Notice with a 60-day comment period soliciting comments on this collection of information was published on April 15, 2013 at pages 22366-22367.

Affected Public: Business or other for profit.

Estimated Annual Burden: .5 hours.

Estimated Average Burden per Respondent: 1 minute.

Frequency of Response: On occasion.

Estimated Number of Respondents: 25.

Dated: July 11, 2013.
By direction of the Secretary.
Crystal Rennie,
VA Clearance Officer, U.S. Department of Veterans Affairs.

[FR Doc. 2013-17030 Filed 7-16-13; 8:45 am]

BILLING CODE 8320-01-P